DEPARTMENT OF THE TREASURY

Office of the Comptroller of the Currency

[Docket ID OCC-2011-0026]

Minority Depository Institutions Advisory Committee

AGENCY: Department of the Treasury, Office of the Comptroller of the Currency.

ACTION: Request for nominations.

SUMMARY: The Office of the Comptroller of the Currency (OCC) has determined to carry on the work of the Minority Depository Institutions Advisory Committee (MDIAC or Committee) formerly administered by the Office of Thrift Supervision, as it is necessary and in the public interest in order for the OCC to preserve the present number of minority depository institutions and encourage the creation of new minority depository institutions. The OCC is seeking nominations of individuals who are officers and/or directors of minority depository institutions, or officers and/or directors of other depository institutions with a commitment to supporting minority depository institutions.

DATES: Nominations must be received on or before January 17, 2012.

ADDRESSES: Nominations should be sent to mdiac.nominations@occ.treas.gov or mailed to: Beverly Cole, Senior Advisor to the Senior Deputy Comptroller for Midsize and Community Bank Supervision, 250 E Street SW., Washington, DC 20219.

FOR FURTHER INFORMATION CONTACT: Kristin Merritt, Special Counsel, Administrative & Internal Law, (202) 874-4681, Office of the Comptroller of the Currency, 250 E Street SW., Washington, DC 20219.

SUPPLEMENTARY INFORMATION: The OCC has determined that the continuation of the MDIAC under the OCC's administration is necessary and in the public interest. The Committee will be administered by the OCC in accordance with the Federal Advisory Committee Act, 5 U.S.C. App. 1, section 9(c). The Committee will advise the OCC on ways to meet the goals established by section 308 of the Financial Institutions Reform, Recovery, and Enforcement Act of 1989 (FIRREA), Public Law 101-73, Title III, 103 Stat. 353, 12 USCA. 1463 note. The goals of section 308 are to preserve the present number of minority institutions, preserve the minority character of minority owned institutions in cases involving mergers or acquisitions, provide technical assistance, and encourage the creation of new minority institutions. The MDIAC will help OCC meet those goals by providing informed advice and recommendations regarding a range of issues involving minority depository institutions.

Nominations should describe and document the proposed member's qualifications for MDIAC membership. Committee members are not compensated for their time, but are eligible for reimbursement of travel expenses in accordance with applicable federal law and regulations.

Dated: November 10, 2011.
By the Office of the Comptroller of the Currency.
John Walsh,
Acting Comptroller of the Currency.

[FR Doc. 2011-29706 Filed 11-16-11; 8:45 am]

BILLING CODE P